DEPARTMENT OF COMMERCE

National Oceanic and Atmospheric Administration

[I.D. 082803C]

Endangered and Threatened Species; Take of Anadromous Fish

AGENCY: National Marine Fisheries Service (NMFS), National Oceanic and Atmospheric Administration (NOAA), Commerce.

ACTION: Issuance of three incidental take permits.

SUMMARY: On August 20, 2003, NMFS Northwest Region issued three incidental take permits (1391, 1392, and 1393) allowing endangered Pacific salmon and steelhead to be taken incidental to the operation of three hydroelectric projects located on the Columbia River, WA. One permit was issued to Public Utility District No. 1 of Douglas County (Douglas PUD) and two to Public Utility District No. 1 of Chelan County (Chelan PUD). The projects are each licensed by the Federal Energy Regulatory Commission (FERC) and are referred to for licensing purposes as: Rocky Reach Hydroelectric Project (FERC No. 2145, Chelan PUD), Rock Island Hydroelectric Project (FERC No. 943, Chelan PUD), and Wells Hydroelectric Project (FERC No. 2149, Douglas PUD). NMFS issued the permits pursuant to section 10(a)(1)(B) of the Endangered Species Act (ESA) of 1973, as amended. The actions and the species they affect are listed in the SUPPLEMENTARY INFORMATION section below.

ADDRESSES: The permits, record of decision and related documents are available for review by appointment at NMFS' Hydropower Division, 525 NE Oregon Street, Suite 500, Portland, OR 97232-2737 (phone: 503-230-5400, fax: 503-230-5435). These documents are also available electronically on the Internet at www.nwr.noaa.gov.

FOR FURTHER INFORMATION CONTACT: Ritchie Graves, Portland, OR (phone: 503-231-6891, e-mail: ritchie.graves@noaa.gov).

SUPPLEMENTARY INFORMATION:

Authority

The ESA requires that incidental take permits be issued based on a finding that such actions (1) will be incidental to otherwise lawful activity; (2) the applicant will, to the maximum extent practicable minimize and mitigate the impacts of such taking; (3) the applicant will ensure that adequate funding for the plan will be provided; (4) the taking will not appreciably reduce the likelihood of survival and recovery of the species in the wild; and (5) any additional measures that NMFS finds necessary or appropriate for the purposes of the plan will be implemented. Authority to take listed species is subject to conditions set forth in the permits. Permits, modifications, and amendments are issued in accordance with, and are subject to, the ESA and NMFS regulations governing listed fish and wildlife permits (50 CFR Sections 222.301-222.307).

This notice covers the following ESA-listed and unlisted species/evolutionarily significant units (ESUs):

Species/Evolutionarily Significant Unit | ESA Listing Status
Upper Columbia River (UCR) steelhead [Oncorhynchus mykiss] | Endangered
UCR spring-run chinook salmon [O. tshawytsha] | Endangered
UCR summer/fall-run chinook salmon [O. tshawytsha] | Not Warranted
Lake Wenatchee sockeye salmon (O. nerka) | Not warranted
Okanogan River sockeye salmon (O. nerka) | Not Warranted
Reintroduced non-indigenous coho salmon (O. kisutch) | Not Applicable

Dated: September 4, 2003.
Laurie K. Allen,
Acting Office Director, Endangered Species Division, Office of Protected Resources, National Marine Fisheries Service.

[FR Doc. 03-23008 Filed 9-9-03; 8:45 am]

BILLING CODE 3510-22-S